DEPARTMENT OF AGRICULTURE

Forest Service

Notice of Administrative Settlement Agreement and Order on Consent for Engineering Evaluation/Cost Analysis Nacimiento Mine Site, Santa Fe National Forest, New Mexico

AGENCY: Forest Service, USDA.

ACTION: Notice of Settlement.

SUMMARY: In accordance with Section 122(i) of the Comprehensive Environmental Response, Compensation and Liability Act of 1980, as amended (CERCLA), 42 U.S.C. 9622(i), notice is hereby given of an Administrative Settlement Agreement and Order on Consent (ASAOC), between the United States Department of Agriculture Forest Service (Forest Service) and Williams Express LLC (Williams), under Sections 104, 107 and 122 of CERCLA, regarding the Nacimiento Mine Site located on the Santa Fe National Forest near Cuba, New Mexico. The property that is the subject of this proposed ASAOC is areas where hazardous substances and/or pollutants or contaminants are located on the surface features of the federally owned portion of the Site designated as Operable Unit 1 (OU1).

This ASAOC requires Williams perform an Engineering Evaluation and Cost Analysis (EE/CA) report to develop, evaluate, and select cleanup alternatives involving mining waste piles and other surface features located on the federally owned portion of OU1 at the Site. The performance of this work must be approved and monitored by the Forest Service. Also under the ASAOC, Williams will reimburse up to $7,500 of the Forest Service's oversight costs related to the EE/CA.

For thirty (30) days following the date of publication of this notice, the United States will receive written comments relating to the ASAOC. The United States will consider all comments received and may modify or withdraw its consent to the ASAOC if comments received disclose facts or considerations that indicate that the settlement is inappropriate, improper, or inadequate. The United States' response to any comments received will be available for public inspection at the USDA, Office of General Counsel, Mountain Region, 740 Simms Street, Golden, Colorado 80401, and the Forest Service's Southwestern Regional Office, 333 Broadway SE., Albuquerque, NM 87102.

DATES: Comments must be submitted on or before May 7, 2015.

ADDRESSES: The proposed settlement and additional background information relating to the settlement are available for public inspection at the offices located at the United States Department of Agriculture, Forest Service, Southwestern Regional Office, 333 Broadway SE., Albuquerque, NM 87102, or from Kirk M. Minckler with USDA's Office of the General Counsel, (303) 275-5549. Comments should reference the Nacimiento Mine, Santa Fe National Forest, Sandoval County, New Mexico, and should be addressed to Kirk M. Minckler, USDA Office of the General Counsel, P.O. Box 25005, Denver, CO 80225-005.

FOR FURTHER INFORMATION CONTACT: For technical information, contact Steven J. McDonald, USDA Forest Service Southwestern Region, 333 Broadway SE., Albuquerque, NM 87102, phone (505) 842-3838. For legal information, contact Kirk M. Minckler, USDA Office of the General Counsel, P.O. Box 25005, Denver, CO 80225-0005; phone (303) 275-5549, Fax: (303) 275-5557; email: kirk.minckler@ogc.usda.gov.

Dated: March 31, 2015.
Danny R. Montoya,
Acting Deputy Regional Forester, USDA Forest Service, Southwestern Region.

[FR Doc. 2015-07898 Filed 4-6-15; 8:45 am]

BILLING CODE CODE 3410-11-P